DEPARTMENT OF COMMERCE

International Trade Administration

[A-557-816]

Certain Steel Nails From Malaysia: Final Results of Antidumping Duty Administrative Review; 2016-2017

AGENCY: Enforcement and Compliance, International Trade Administration, Department of Commerce.

SUMMARY: The Department of Commerce (Commerce) determines that Region International Co. Ltd. and Region System Sdn. Bhd. (collectively, Region) made sales of certain steel nails (steel nails) from Malaysia at less than normal value during the period of review (POR) July 1, 2016, through June 30, 2017, and that Inmax Sdn. Bhd. and Inmax Industries Sdn. Bhd. (collectively, Inmax) did not.

DATES: Applicable March 18, 2019.

FOR FURTHER INFORMATION CONTACT: Edythe Artman (Inmax) or Madeline Heeren (Region), AD/CVD Operations, Office VI, Enforcement and Compliance, International Trade Administration, U.S. Department of Commerce, 1401 Constitution Avenue NW, Washington, DC 20230; telephone: (202) 482-3931 or (202) 482-9179, respectively.

SUPPLEMENTARY INFORMATION:

Background

On August 9, 2018, Commerce published the Preliminary Results of the 2016-2017 antidumping duty administrative review of steel nails from Malaysia.¹ Commerce conducted verification of Inmax's sales information from September 17 through 21, 2018. We invited interested parties to comment on the Preliminary Results and the verification report. For Region, we received case briefs from Mid Continent Steel & Wire, Inc. (the petitioner) and Region on December 14, 2018,² and a rebuttal brief from Region on December 21, 2018.³ For Inmax, we received a case brief from the petitioner on February 14, 2019,⁴ and a rebuttal brief from Inmax on February 19, 2019.⁵ On February 26, 2019, the petitioner withdrew its request for a hearing.⁶

¹ See Certain Steel Nails from Malaysia: Preliminary Results and Partial Rescission of Antidumping Duty Administrative Review; 2016-2017, 83 FR 39422 (August 9, 2018) and accompanying Preliminary Decision Memorandum (Preliminary Results).

² See Letter, “Certain Steel Nails from Malaysia: Case Brief on Region,” dated December 14, 2018 (Petitioner Case Brief—Region); see also Region's Letter, “Certain Steel Nails from Malaysia: Case Brief,” dated December 12, 2018 (Region Case Brief).

³ Letter, “Steel Nails from Malaysia: Rebuttal Brief,” dated December 21, 2018 (Region's Rebuttal Brief).

⁴ See Letter, “Certain Steel Nails from Malaysia: Case Brief Inmax,” dated February 14, 2018 (Petitioner Case Brief—Inmax).

⁵ See Letter, “Steel Nails from Malaysia—Rebuttal Brief,” dated February 19, 2019 (Inmax Rebuttal Brief).

⁶ See Petitioner's Letter, “Certain Steel Nails from Malaysia: Withdrawal of Hearing Request,” dated February 26, 2019.

On November 8, 2018, Commerce postponed the deadline for the final results of this review until February 1, 2019.⁷ Commerce exercised its discretion to toll all deadlines affected by the partial federal government closure from December 22, 2018, through the resumption of operations on January 29, 2019. If the new deadline falls on a non-business day, in accordance with Commerce's practice, the deadline will become the next business day. Accordingly, the deadline for the final results of this review was revised to March 13, 2019.⁸

⁷ See Memorandum, “Certain Steel Nails from Malaysia: Extension of Deadline for Final Results of Antidumping Duty Administrative Review; 2016-2017,” dated November 8, 2018.

⁸ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise covered by this order is steel nails, which are currently classifiable under HTSUS subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Certain steel nails subject to these orders also may be classified under HTSUS subheadings 7907.00.60.00, 8206.00.00.00 or other HTSUS subheadings.

For a complete description of the scope of the order, see the Issues and Decision Memorandum.⁹

⁹ See Memorandum, “Issues and Decision Memorandum for the Final Results of the Administrative Review of the Antidumping Duty Order on Certain Steel Nails from Malaysia; 2016-2017,” dated March 13, 2019 (Issues and Decision Memorandum), 3-4.

Analysis of Comments Received

All issues raised in the case and rebuttal briefs by parties to this administrative review are addressed in the Issues and Decision Memorandum, which is hereby adopted by this notice. A list of the issues raised is attached to this notice as an Appendix. The Issues and Decision Memorandum is a public document and is on-file electronically via Enforcement and Compliance's Antidumping and Countervailing Duty Centralized Electronic Service System (ACCESS). ACCESS is available to registered users at https://access.trade.gov and in the Central Records Unit (CRU), Room B8024 of the main Department of Commerce building. In addition, a complete version of the Issues and Decision Memorandum can be accessed directly at http://enforcement.trade.gov/frn/index.html. The signed Issues and Decision Memorandum and the electronic version of the memorandum are identical in content.

Changes Since the Preliminary Results

Based on our review of the record and comments received from interested parties, we made certain revisions to the preliminary margin calculations for Inmax and Region. The Issues and Decision Memorandum contains a description of these revisions.¹⁰

¹⁰ See Issues and Decision Memorandum at 4-5; see also Memorandum, “Margin Calculation Memorandum for Inmax Sdn. Bhd. and Inmax Industries Sdn. Bhd. in the Final Results of the Administrative Review of the Antidumping Duty Order on Certain Steel Nails from Malaysia,” dated concurrently with this notice; Memorandum, “Analysis Memorandum for Region International Co., Ltd and Region System Sdn. Bhd. in the Preliminary Results of the 2016/2017 Administrative Review of the Antidumping Duty Order on Certain Steel Nails from Malaysia,” dated concurrently with this notice.

Final Results of the Administrative Review

We have determined the following weighted-average dumping margins for the firms listed below for the period July 1, 2016, through June 30, 2017: ¹¹

¹¹ Commerce has determined to collapse, and treat as a single entity, affiliates Inmax Sdn. Bhd. and Inmax Industries Sdn. Bhd. (collectively, Inmax) and Region International Co. Ltd. and Region System Sdn. Bhd. (collectively, Region) for these final results of review. For a discussion of this analysis, see Memorandum, “Decision Memorandum for Preliminary Results and Partial Rescission of Antidumping Duty Administrative Review: Certain Steel Nails from Malaysia; 2016-2017, dated August 3, 2018, 4-6.

Producer/exporter | Weighted- average dumping margin (percent)
Inmax Sdn. Bhd. and Inmax Industries Sdn. Bhd | 0.00
Region International Co. Ltd. and Region System Sdn. Bhd | 1.46

Disclosure

We will disclose the calculations performed to parties in this proceeding within five days of the date of publication of this notice, in accordance with 19 CFR 351.224(b).

Assessment Rates

Pursuant to section 751(a)(2)(A) of the Tariff Act of 1930, as amended (the Act), and 19 CFR 351.212(b)(1), Commerce will determine, and U.S. Customs and Border Protections (CBP) shall assess, antidumping duties on all appropriate entries of subject merchandise in accordance with the final results of this review. We will calculate importer-specific assessment rates on the basis of the ratio of the total amount of antidumping duties calculated for each importer's examined sales and the total entered value of the sales in accordance with 19 CFR 351.212(b)(1).

For entries of subject merchandise during the POR produced by each respondent for which it did not know its merchandise was destined for the United States, we will instruct CBP to liquidate unreviewed entries at the all-others rate if there is no rate for the intermediate company(ies) involved in the transaction.

We intend to issue liquidation instructions to CBP 15 days after publication of the final results of this review.

Cash Deposit Requirements

The following cash deposit requirements will be effective upon publication of the notice of final results of administrative review for all shipments of subject merchandise entered, or withdrawn from warehouse, for consumption on or after the date of publication, as provided by section 751(a)(2) of the Act: (1) The cash deposit rate for the respondents noted above will be the rate established in the final results of this administrative review; (2) for merchandise exported by manufacturers or exporters not covered in this administrative review but covered in a prior segment of the proceeding, the cash deposit rate will continue to be the company-specific rate published for the most recently completed segment of this proceeding; (3) if the exporter is not a firm covered in this review, a prior review, or the original investigation, but the producer is, the cash deposit rate will be the rate established for the most recently completed segment of this proceeding for the producer of the subject merchandise; and (4) the cash deposit rate for all other producers or exporters will continue to be 2.66 percent, the all-others rate established in the investigation.¹² These cash deposit requirements, when imposed, shall remain in effect until further notice.

¹² See Certain Steel Nails from the Republic of Korea: Final Determination of Sales at Less Than Fair Value, 80 FR 28955 (May 20, 2015).

Notification to Importers Regarding the Reimbursement of Duties

This notice also serves as a final reminder to importers of their responsibility under 19 CFR 351.402(f) to file a certificate regarding the reimbursement of antidumping duties prior to liquidation of the relevant entries during the POR. Failure to comply with this requirement could result in Commerce's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305(a)(3). Timely written notification of the return or destruction of APO materials, or conversion to judicial protective order, is hereby requested. Failure to comply with the regulations and the terms of an APO is a sanctionable violation.

We are issuing and publishing this notice in accordance with sections 751(a)(1) and 777(i) of the Act and 19 CFR 351.221(b)(5).

Dated: March 13, 2019.
Gary Taverman,
Deputy Assistant Secretary for Antidumping and Countervailing Duty Operations, performing the non-exclusive functions and duties of the Assistant Secretary for Enforcement and Compliance.

Appendix

List of Topics Discussed in the Issues and Decision Memorandum

I. Summary

II. List of Issues

III. Background

IV. Scope of the Order

V. Changes Since the Preliminary Results

VI. Discussion of the Issues

Inmax-Specific Issues

Comment 1: Revision of General and Administrative Expenses

Region-Specific Issues

Comment 2: Application of the Transactions Disregarded Analysis

(a) Heat Treatment

(b) Electroplating

(c) Clerical Errors

VII. Recommendation

[FR Doc. 2019-05002 Filed 3-15-19; 8:45 am]

BILLING CODE 3510-DS-P